DEPARTMENT OF HEALTH AND HUMAN SERVICES

Administration for Children and Families

Delegation of Authority

Notice is hereby given that I have delegated to the Assistant Secretary for Children and Families the authority vested in the Secretary of Health and Human Services with authority to re-delegate to the Director of the Office of Refugee Resettlement, the following authority vested in the Secretary under the William Wilberforce Trafficking Victims Protection Reauthorization Act of 2008, Public Law 110-457,22 U.S.C. 7105.

Authority Delegated

1. Authority to provide interim assistance to children who may have been subjected to a severe form of trafficking and to conduct activities related to eligibility letters under the William Wilberforce Trafficking Victims Protection Reauthorization Act of 2008, Public Law 110-457, section 212(a)(2), 22 U.S.C. 7105, as amended. In exercising the authority to conduct activities related to eligibility letters, personnel in the Administration for Children and Families will consult with the Attorney General, the Secretary of Homeland Security and nongovernmental organizations with expertise on victims of trafficking.

2. Authority to train Federal staff and State and local officials to improve identification and protection for trafficking victims under the William Wilberforce Trafficking Victims Protection Reauthorization Act of 2008, Public Law 110-457, section 212(b)(1) and (2), 22 U.S.C. 7105, as amended.

I hereby affirmed and ratified any actions taken by the Assistant Secretary for Children and Families or any other Administration for Children and Families officials, which, in effect, involved the exercise of this authority prior to the effective date of this delegation.

Limitations

1. This delegation shall be exercised under the Departments existing delegation of authority and policy on regulations.

2. This delegation shall be exercised under financial and administrative requirements applicable to all Administration for Children and Families authorities.

Effective Date

This delegation of authority is effective on date of signature.

Dated: March 23, 2009.
Charles E. Johnson,
Acting Secretary, Department of Health and Human Services.

[FR Doc. E9-6958 Filed 3-30-09; 8:45 am]

BILLING CODE 4184-01-M